DEPARTMENT OF AGRICULTURE

[Doc. No. AMS-FGIS-18-0057]

Designation for the Topeka, Kansas; Minot, North Dakota; Cincinnati, Ohio; Pocatello, Idaho; Evansville, Indiana; Salt Lake City, Utah; West Sacramento, California; Richmond, Virginia; and Savage, Minnesota Areas

AGENCY: Agricultural Marketing Service, USDA.

ACTION: Notice.

SUMMARY: The Agricultural Marketing Service (AMS) is announcing the designations of Kansas Grain Inspection Service, Inc. (Kansas); Minot Grain Inspection, Inc. (Minot); Tri-State Grain Inspection Service, Inc. (Tri-State); Idaho Grain Inspection Service, Inc. (Idaho); Ohio Valley Grain Inspection, Inc. (Ohio Valley); Utah Department of Agriculture and Food (Utah); California Agri Inspection Co., Ltd. (Cal-Agri); Virginia Department of Agriculture and Consumer Services (Virginia); and State Grain Inspection, Inc. (State Grain) to provide official services under the United States Grain Standards Act (USGSA), as amended. The realignment of offices within the U.S. Department of Agriculture authorized by the Secretary's Memorandum dated November 14, 2017, eliminates the Grain Inspection, Packers and Stockyards Administration (GIPSA) as a standalone agency. The grain inspection activities formerly part of GIPSA are now organized under AMS.

DATES: July 1, 2018.

ADDRESSES: Jacob Thein, Compliance Officer, USDA, AMS, FGIS, QACD, 10383 North Ambassador Drive, Kansas City, MO 64153.

FOR FURTHER INFORMATION CONTACT: Jacob Thein, 816-866-2223, Jacob.D.Thein@ams.usda.gov or FGISQACD@ams.usda.gov.

Read Applications: All applications and comments are available for public inspection at the office above during regular business hours (7 CFR 1.27(c)).

SUPPLEMENTARY INFORMATION: In the May 25, 2018, Federal Register (83 FR 24273-24274), AMS requested applications for designation to provide official services in the geographic areas presently serviced by Kansas, Minot, Tri-State, Idaho, Ohio Valley, Utah, Cal-Agri, Virginia, and State Grain. Applications were due by June 25, 2018.

The current official agencies, Kansas, Minot, Tri-State, Idaho, Ohio Valley, Utah, Cal-Agri, Virginia, and State Grain, were the only applicants for designation to provide official services in these areas. As a result, AMS did not ask for additional comments.

AMS evaluated the designation criteria in section 7(f) of the USGSA (7 U.S.C. 79(f)) and determined that Kansas, Minot, Tri-State, Idaho, Ohio Valley, Utah, Cal-Agri, Virginia, and State Grain are qualified to provide official services in the geographic areas specified in the Federal Register on May 25, 2018. The designations to provide official services in the specified areas of Kansas, Minot, and Tri-State are effective July 1, 2018, to June 30, 2023. The designations to provide official services in the specified areas of Idaho and Ohio Valley are effective October 1, 2018 to September 30, 2023. The designations to provide official services in the specified areas of Cal-Agri and Virginia are effective January 1, 2019, to December 31, 2023. The designation to provide official services in the specified area of Utah is effective October 1, 2018, to September 30, 2021. The designation to provide official services in the specified area of State Grain is effective January 1, 2019, to December 31, 2021.

Interested persons may obtain official services by contacting this agency at the following telephone number:

Official agency | Headquarters location and telephone |  | Designation start | Designation end
Kansas | Topeka, KS | 785-233-7063 | 7/1/2018 | 6/30/2023
Minot | Minot, ND | 701-838-1734 | 7/1/2018 | 6/30/2023
Tri-State | Cincinnati, OH | 513-251-6571 | 7/1/2018 | 6/30/2023
Idaho | Pocatello, ID | 208-233-8303 | 10/1/2018 | 9/30/2023
Ohio Valley | Evansville, IN | 812-423-9010 | 10/1/2018 | 9/30/2023
Utah | Salt Lake City, UT | 801-392-2292 | 10/1/2018 | 9/30/2021
Cal-Agri | West Sacramento, CA | 916-374-9700 | 1/1/2019 | 12/31/2023
Virginia | Richmond, VA | 757-494-2455 | 1/1/2019 | 12/31/2023
State Grain | Savage, MN | 952-808-8566 | 1/1/2019 | 12/31/2021

Section 7(f) of the USGSA authorizes the Secretary to designate a qualified applicant to provide official services in a specified area after determining that the applicant is better able than any other applicant to provide such official services (7 U.S.C. 79(f)).

Authority: 7 U.S.C. 71-87k.

Dated: September 26, 2018.
Greg Ibach,
Under Secretary, Marketing and Regulatory Programs.

[FR Doc. 2018-21265 Filed 9-28-18; 8:45 am]

BILLING CODE 3410-02-P